DEPARTMENT OF ENERGY

Plan for Conduct of 2012 Electric Transmission Congestion Study

AGENCY: Office of Electricity Delivery and Energy Reliability, Department of Energy (DOE).

ACTION: Notice of regional workshops, correction.

SUMMARY: On November 10, 2011, the Department of Energy (Department or DOE) published a notice of four regional workshops and request for written comments in connection with the preparation of a study of electric transmission congestion pursuant to section 216(a)(1) of the Federal Power Act (76 FR 70122). This document makes a correction to that notice.

FOR FURTHER INFORMATION CONTACT: David Meyer, DOE Office of Electricity Delivery and Energy Reliability, (202) 586-1411, david.meyer@hq.doe.gov.

Correction

The November 10, 2011 notice stated that the four regional workshops will be simulcast over the Internet and that advance registration for the Webcasts is required by visiting http://www.iian.ibeam.com/events/ener001/26552/. The workshops will not be simulcast. However, the Department requests—but does not require—that individuals planning to attend the workshops in person pre-register at this Web site: http://energy.gov/oe/congestion-study-2012.

Issued in Washington, DC on November 29, 2011.
Patricia A. Hoffman,
Assistant Secretary, Office of Electricity Delivery and Energy Reliability.

[FR Doc. 2011-31118 Filed 12-2-11; 8:45 am]

BILLING CODE 6450-01-P